DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 26, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Export Health Certificate for Animal Products.

OMB Control Number: 0579-0256.

Summary of Collection: The Animal Health Protection Act (AHPA) of 2002 is the primary Federal law governing the protection of animal health. The law gives the Secretary of Agriculture board authority to detect, control, or eradicate pests or diseases of livestock or poultry. The export of agricultural commodities, including animals and animal products, is a major business in the United States and contributes to a favorable balance of trade. To facilitate the export of U.S. animals and products, the U.S. Department of Agriculture, Animal and Plant Health Inspection Service (APHIS), Veterinary Services maintains information regarding the import health requirements of other countries for animals and animal products exported from the United States. Many countries that import animal products from the United States require a certification from APHIS that the United States is free of certain diseases. These countries may also require that our certification statement contain additional declarations regarding the U.S. animal products being exported. Regulations pertaining to export certification of animals and animal products are contained in 9 CFR part 91. VS forms 16-4 and VS 16-4A, Export Certificate for Animal Products and Export Certificate for Animal Products Continuation Sheet; a hearing request to appeal VS' decision to refuse to grant a certificate; a notification of tampered certificate; and letterhead certification can be used to meet these requirements.

Need and Use of the Information: VS forms 16-4 and 16-4A serve as the official certification that the United States is free of rinderpest, foot-and-mouth disease, classical swine fever, swine vesicular disease, African swine fever, bovine fever, bovine spongiform encephalopathy, and contagious bovine pleuropneuomia. APHIS will collect the exporter's name, address, the name and address of the consignee, the quantity, and unit of measure, type of product being exported, the exporter's identification, and type of conveyance (ship, train, and truck) that will transport the products. The form also asks for any declarations the receiving country might require such as statements concerning where the product originated and how it was processed. Without the information, many countries would not accept animal products from the United States, creating a serious trade imbalance and adversely affecting U.S. exporters.

Description of Respondents: Business or other-for-profit.

Number of Respondents: 32,687.

Frequency of Responses: Reporting: On occasion.

Total Burden Hours: 58,165.

Animal and Plant Health Inspection Service

Title: Phytophthora Ramorum; Quarantine and Regulations.

OMB Control Number: 0579-0310.

Summary of Collection: Under the Plant Protection Act (7 U.S.C. 7701 et seq.), the Secretary of Agriculture, either independently or in cooperation with the States, is authorized to carry out operations or measures to detect, eradicate, suppress, control, prevent, or retard the spread of plant pest new to the United States or not widely distributed throughout the United States. Under “Subpart X—Phytophthora Ramorum” (7 CFR 301.92 through 301.92-12, referred to as the regulation), USDA's Animal and Plant Health Inspection Service (APHIS) restricts the interstate movement of certain regulated and restricted articles from quarantined areas and regulated establishments to prevent the artificial spread of Phytophthora ramorum, the pathogen that causes the plant disease commonly known as sudden oak death, ramorum left blight, and ramorum dieback.

Need and Use of the Information: To control the spread of P. ramorum, APHIS enters enter compliance agreements with State plant health agencies and businesses, conducts inspections and certifications of facilities and records, and requires plant testing. It also issues emergency action notifications.

Without these activities, P. ramorum would potentially spread spread to unaffected forests, adversely impacting the ecosystem balances, foreign/domestic nursery stocks, and lumber markets.

Description of Respondents: State plant health officials; Business or other for-profit.

Number of Respondents: 100.

Frequency of Responses: Reporting; Recordkeeping: On occasion.

Total Burden Hours: 259.

Animal and Plant Health Inspection Service

Title: Johne's Disease in Domestic Animals.

OMB Control Number: 0579-0338.

Summary of Collection: The Animal Health Protection Act of 2002 is the primary Federal law governing the protection of animal health. The law gives the Secretary of Agriculture broad authority to detect, control, or eradicate pests or diseases of livestock or poultry. The regulations in 9 CFR part 80 pertain specifically to the interstate movement of domestic animals that are positive to an official test for Johne's disease. These regulations provide that cattle, sheep, goats, and other domestic animals that are positive to an official test for Johne's disease may generally be moved interstate only to a recognized slaughtering establishment or to an approved livestock facility for sale to such an establishment. However, they may also be moved for purposes other than slaughter under certain conditions. Moving Johne's-positive livestock interstate for slaughter or for other purposes without increasing the risk of disease spread requires a movement permit or an owner-shipper statement, official ear tags, and a permission to move request. Permission may also be sought, in writing, for movement of animals that do not have a permit, owner-shipper statement, or ear tags.

Need and Use of the Information: Animal and Plant Health Inspection Service (APHIS) will collect information using form VS Form 1-27, Permit for Movement of Restricted Animals, Official Ear Tags, and Request for Permission to Move. APHIS will collect the following information from VS Form 1-27: (1) The number of animals to be moved; (2) the species of the animals; (3) the points of origin and destination, and (4) the names and addresses of the consignor and the consignee. Failing to collect this information would greatly hinder the control of Johne's disease and possible lead to increased prevalence.

Description of Respondents: Business or other for-profit; Accredited Veterinarians.

Number of Respondents: 6.

Frequency of Responses: Reporting; On occasion.

Total Burden Hours: 7.

Animal Plant and Health Inspection Service

Title: Bovine Spongiform Encephalopathy (BSE); Importation of Animals and Animal Products.

OMB Control Number: 0579-0393.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if necessary to prevent the spread of any livestock or poultry pest or disease. The AHPA is contained in title X, subtitle E, sections 10401-18 of Public Law 107-171, May 13, 2002, the Farm Security and Rural Investment Act of 2002. The Animal and Plant Health Inspection Service (APHIS) regulates the importation of animals and animal products into the United States to guard against the introduction of animal diseases. The regulations in 9 CFR parts 92 through 98, govern the importation of certain animals, birds, poultry, meat, other animal products and byproducts, hay, and straw. It also contains measures for preventing the introduction of various diseases into the United States.

Need and Use of the Information: To ensure BSE is not introduced into the United States, the regulations place specific conditions on the importation of animals and animal products. These requirements necessitate the use of several information collection activities, including, but not limited to, certification, official identification, request for and retention of classification as negligible or controlled risk, declaration of importation, import and export certificates, applications, import and movement permits, agreements, certification statements, seals, notifications, and recordkeeping. Failure to collect this information would make it impossible for APHIS to effectively prevent BSE-contaminated animals and animal products from entering the United States, and to track movement of any imported BSE-contaminated animals or products within the United States post-arrival.

Description of Respondents: Business or other for-profit; Federal Government; Individuals.

Number of Respondents: 978.

Frequency of Responses: Reporting: Recordkeeping; On occasion.

Total Burden Hours: 663,779.

Levi S. Harrell,
Departmental Information Collection Clearance Officer.

[FR Doc. 2024-01421 Filed 1-24-24; 8:45 am]

BILLING CODE 3410-34-P